DEPARTMENT OF STATE

Bureau of Oceans and International Environmental and Scientific Affairs (OES)

[Public Notice 3848]

Public Meeting To Discuss the International Harmonization of Chemical Hazard Classification and Labeling Systems

SUMMARY: The United States Government, through an interagency working group, has been participating in the international effort to develop a globally harmonized system (GHS) of chemical hazard classification and labeling. The Department of State will hold a public meeting for interested parties, including industry representatives and public interest groups, on Wednesday, November 28, 2001, from 11:30 AM to 1 PM in Room 6200-6204 of the Nassif Building, at the U.S. Department of Transportation, 400 Seventh Street SW, Washington, DC. Attendees should bring picture identification with them; no advance registration is necessary. For further information, please contact Marie Ricciardone, U.S. Department of State, Office of Environmental Policy, OES/ENV Room 4325, 2201 C Street NW, Washington, DC, 20520; telephone (202)736-4660; fax (202)647-5947; email ricciardonemd@state.gov.

SUPPLEMENTARY INFORMATION: The globally harmonized system for chemical hazard classification and labeling (GHS) is a voluntary system that provides a common and coherent approach to define and classify hazards, and communicate this information on labels and safety data sheets. The GHS will promote the sound management of chemicals by ensuring that coherent information is provided on all imported and exported chemicals, and facilitate trade by eliminating the need to comply with multiple classification and labeling systems.

The public meeting will provide an update on GHS activities since the previous meeting on May 8, 2001. (See Department of State Public Notice 3651 on page 21430 of the Federal Register of April 30, 2001.) The meeting will also preview the key topics of the Second Session of the United Nations Sub-Committee of Experts on the Globally Harmonized System of Classification and Labeling of Chemicals, that will take place in Geneva, December 12-14, 2001.

Agencies participating in the interagency group include the Department of State, Occupational Safety and Health Administration, Environmental Protection Agency, Department of Transportation, Consumer Product Safety Commission, Food and Drug Administration, Department of Commerce, Department of Agriculture, Office of the U.S. Trade Representative, and National Institute of Environmental Health Sciences. For additional information on the harmonization process, please refer to the Department of State Public Notice 2526, pages 15951-15957 of the Federal Register of April 3, 1997.

Recent International Meetings

• Seventh Meeting of the International Labor Organization Working Group for the Harmonization of Chemical Hazard Communication, May 21-24, 2001, Geneva, Switzerland. Participants achieved consensus on most elements of the GHS, including symbols, signal words, hazard statements and safety data sheets.

• Eighteenth Consultation of the Inter-Organization Program for the Sound Management of Chemicals (IOMC) Coordinating Group for the Harmonization of Chemical Classification Systems, May 24-25, 2001, Geneva, Switzerland. The Coordinating Group completed its work and submitted the final document to the UN GHS Sub-Committee.

• Nineteenth Session of the United Nations Sub-Committee of Experts on the Transport of Dangerous Goods, July 2-6, 2001, Geneva, Switzerland. The Sub-Committee agreed on classification criteria for aerosol flammability and recommended a harmonized symbol shape/border.

• First Session of the United Nations Sub-Committee of Experts on the Globally Harmonized System of Classification and Labeling of Chemicals, July 9-11, 2001, Geneva, Switzerland. This Sub-Committee is responsible for promoting adoption of the GHS, and updating the system as necessary. The Sub-Committee elected officers, considered requests for consultative status, received progress reports on the GHS development and considered plans for implementation.

Upcoming Meetings

• Second Session of the United Nations Sub-Committee of Experts on the Globally Harmonized System of Classification and Labeling of Chemicals, December 12-14, 2001, Geneva, Switzerland. The Sub-Committee will review the GHS document prepared by the IOMC Coordinating Group that integrates the physical, health and environmental classification criteria and hazard communication elements; and consider implementation issues. Meeting documents are available on the web at: http://www.unece.org/trans/main/dgdb/dgsubc4/c4doc_2001.html.

• The Organization for Economic Cooperation and Development (OECD) Task Force on Harmonization of Classification and Labeling is considering the development of classification criteria for aspiration hazards, water-activated toxicity, respiratory irritation and narcotic effects.

The Department of State is issuing this notice to help ensure that interested and potentially affected parties are aware of and knowledgeable about the GHS, and have an opportunity to offer comments. Those organizations/individuals that cannot attend the meeting may submit written comments to Marie Ricciardone, Department of State, OES/ENV Room 4325, 2201 C Street NW, Washington, DC 20520. Comments will be placed in the OSHA public docket (H-022H), which is open from 10 AM until 4 PM, at the Department of Labor, Room 2625, 200 Constitution Avenue NW, Washington, DC; telephone (202)219-7894; fax (202)219-5046. Interested organizations/individuals that wish to receive future notifications of GHS developments by email should contact Mary Frances Lowe at lowe.maryfrances@epa.gov.

Dated: November 19, 2001.
Robert J. Ford,
Acting Director, Office of Environmental Policy, Department of State.

[FR Doc. 01-29381 Filed 11-23-01; 8:45 am]

BILLING CODE 4710-06-P